SOCIAL SECURITY ADMINISTRATION

[Docket No. SSA-2009-0024]

Financial Literacy Research Consortium Request for Applications (RFA); Program Announcement No. SSA-ORP-09-1

AGENCY: Social Security Administration.

ACTION: Notice and request for applications.

SUMMARY: Social Security benefits are a key foundation in providing income security for millions of Americans. However, they are intended to complement other sources of income wherever feasible, such as pensions, tax-deferred retirement savings accounts, or personal savings. The current economic climate means that many Americans are now in danger of having insufficient savings for retirement and other life events. This situation occurs at a time when workers also need to take increasing responsibility for their savings decisions as many employers are moving from defined benefit to defined contribution plans.

As described in the new SSA Agency Strategic Plan, we believe we have a special responsibility to help Americans of all working ages to understand the role of Social Security benefits and the need for Americans to save as they plan for retirement and other life events. More fundamentally, we also need to educate the public about the role of Social Security as one of the foundations of household income in the event of retirement, disability, or death. This includes a focus on key decisions such as when to stop working and when to take retirement benefits.

The Financial Literacy Research Consortium (FLRC) will be an innovative, non-partisan multidisciplinary research and development (R&D) initiative to develop products to better inform the public about key financial literacy topics related to retirement savings and planning. We are interested in developing products—such as Internet tools as well as print materials—that help foster retirement and other savings strategies at all stages of the life cycle. Products may be tailored to new entrants to the workforce, mid-career workers, those approaching retirement, and those in retirement who must successfully manage retirement assets. In addition, as part of the FLRC, we are seeking some (but not exclusive) focus on educational products to help low and moderate income populations successfully plan and save for retirement and other life events, as well as products that improve understanding of Social Security's programs. We are also interested in potentially evaluating optimal distributional channels for some or many of these products.

Due to our existing relationship with the public, we are uniquely positioned to encourage saving. We have over 1,300 field offices across the country, a Web site that received over 88 million visits in 2008, a Social Security Statement that is sent to approximately 150 million workers every year and professional public affairs staff around the country. We may distribute FLRC products (or revised products) to better inform the public about retirement savings topics. In addition, the FLRC will make available to the public products developed by the FLRC that may be of value to the broader savings and retirement planning community.

We are announcing the solicitation of applications for a cooperative agreement to compete for a Financial Literacy Research Consortium to help inform the public about financial literacy and savings. Section 1110 of the Act, 42 U.S.C. 1310. In the first year, the Consortium will be composed of no more than two research centers. The centers will have a combined annual budget of approximately $5.0 million. We expect to fund the centers for a period of 5 years, contingent on an annual review process and continued availability of funds.

DATES: The opening date of this announcement is the date of publication. The closing date for receipt of cooperative agreement applications under this announcement is June 6, 2009.

Notice/Letter of Intent: Prospective applicants are asked to submit, preferably with an e-mail attachment, within 30 days of publication of this RFA, an e-mail, fax, postcard or letter of intent that includes (1) the program announcement number (SSA-ORP-09-1) and title (Financial Literacy Research Consortium); (2) the name of the agency or organization that is applying and (3) the name, mailing address, e-mail address, telephone number and fax number for the organization's contact person. The notice of intent is not required, is not binding, and does not enter into the review process of a subsequent application.

The purpose of the notice of intent is to allow our staff to estimate the number of independent reviewers needed and to avoid potential conflicts of interest in the review. The notice of intent should be faxed to (202) 358-6355 or mailed to Social Security Administration, Office of Retirement Policy, 500 E St., SW., Washington, DC 20254. Attn: David Rogofsky.

ADDRESSES: We require that applicants submit an electronic application through www.grants.gov for Funding Opportunity Number SSA-ORP-09-1. The www.grants.gov “Get Registered” Web page is available to help explain the registration and application submission process. In addition, new Federal grant applicants may find the Grants.gov “Registration Brochure” on the above noted Web site to be helpful. Also, as questions come in from this RFA, we will be posting a Word attachment FAQ on the Office of Retirement Policy Web site (http://www.ssa.gov/retirementpolicy). Questions can be submitted to flrc@ssa.gov and answers will be posted on the Web site as they become available. Therefore, all potential applicants should continue to monitor the Office of Retirement Policy Web site frequently in order to ensure that they have the latest updates of FAQs.

If you experience problems with the steps related to registering to do business with the Federal government or application submission, your first point of contact is the Grants.gov support staff at support@grants.gov, 1-800-518-4726. If your difficulties are not resolved, you may also contact the SSA Grants Management Team for assistance: Audrey Adams, (410) 965-9469; Mary Biddle, (410) 965-9503; Ann Dwayer, (410) 965-9534; Phyllis Y. Smith (410) 965-9518. If extenuating circumstances prevent you from submitting an application through www.grants.gov, please contact the SSA Grants Management Team for possible prior approval to download, complete, and submit an application by mail. Should we grant such approval, the downloadable application package will be available at http://www.ssa.gov/oag. Please fax inquiries regarding the application process to the Grants Management Team at (410) 966-9310 or mail to: Social Security Administration, Office of Acquisition and Grants, Grants Management Team, Attention: SSA-ORP-09-1, 1st Floor, Rear Entrance, 7111 Security Blvd., Baltimore, MD 21244. To ensure receipt of the proper application package, please include program announcement number SSA-ORP-09-1 and the date of this announcement.

FOR FURTHER INFORMATION CONTACT: For nonprogrammatic information regarding the announcement or application package, contact: SSA, Office of Acquisition and Grants, Grants Management Team, 7111 Security Blvd., 1st Floor Rear Entrance, Baltimore, MD 21244. Contact persons are: Audrey Adams, Grants Management Officer, telephone (410) 965-9469, Mary Biddle, (410) 965-9503; Ann Dwayer, (410) 965-9534; Phyllis Y. Smith, (410) 965-9518. The fax number is (410) 966-9310.

For information on the program content of the announcement/application, please submit a question to the mailbox flrc@ssa.gov.

SUPPLEMENTARY INFORMATION:

Table of Contents

I. Funding Opportunity Description

A. Purpose

B. The Role of the Center(s)

1. Key Product Research Questions

2. Product Development and Testing

3. Dissemination of Products and Findings

4. Tasks

C. Responsibilities

1. Responsibilities

2. SSA Responsibilities

II. Award Information

A. Type of Award

B. Availability and Duration of Funding

C. Letter of Intent

III. Eligibility Information

A. Eligible Applicants

B. Cost Sharing or Matching

C. Policies Regarding Potential Conflict of Interest in WIPA Service Delivery

D. Other

IV. Application and Submission Information

A. Overview

B. Availability of Application Forms

C. Content and Organization of Technical Application

D. Components of a Complete Application

E. Guidelines for Application Submission

F. Submission Date and Times

G. Intergovernmental Review

H. Funding Restrictions

I. Other Submission Requirements

V. Application Review Information

A. Review Process and Funding

B. Selection Process and Evaluation Criteria

VI. Award Administration Information

A. Notification

B. Award Notices

C. Administration and National Policy Requirements

D. Reporting

VII. Agency Contacts

VIII. Other

I. Funding Opportunity Description

A. Purpose

We are announcing the solicitation of applications for a cooperative agreement to compete for a Financial Literacy Research Consortium (FLRC). Section 1110 of the Act, 42 U.S.C. 1310. We seek applications in support of the FLRC that will serve as a national resource fostering innovative R&D on how to encourage savings through greater financial literacy, being cognizant that Social Security income is a fundamental source of retirement savings for many, and thus a cornerstone of our involvement.

The FLRC may consist of up to two research centers. The Consortium's purpose is to benefit the public through the following:

(1) Research, development and evaluation. We expect the FLRC to plan, initiate, and maintain a multi-disciplinary R&D program of high quality. This R&D will result primarily in educational products that encourage savings and effective retirement planning, including planning for the key decisions around retirement timing and benefit receipt. It may also result in research-based recommendations on the architecture or structure of programs or mechanisms that encourage use of public and private sector savings plans.

(2) Dissemination. The FLRC will disseminate research findings and product prototypes through center Web sites and other media to inform the public as well as the broader retirement savings community including practitioners, policymakers and the public.

(3) SSA's Rights in Data. The Federal Acquisition Regulation (FAR) incorporates into the cooperative agreement the Government's rights in data. 48 CFR 52.227-14. Under this cooperative agreement, references to the “contract” in the FAR must refer to this cooperative agreement, and references to the “Contractor” in the FAR must refer to the agency's FLRC cooperative agreement partner(s).

The provision provides, among other things, that the agency will have unlimited rights in data first produced in performance of the cooperative agreement, which means that we will have the right, as to this data, to use, disclose, reproduce, prepare derivative works, distribute copies to the public, and display it publicly, in any manner and for any purpose. 48 CFR 52.227-14(1). In addition, the agency can permit others to have the same rights just described.

Under FAR, the agency's FLRC cooperative agreement partner(s) will have the right to release to others, reproduce, distribute, or publish any data first produced or specifically used by the agency's FLRC cooperative agreement partner(s) in performance of this cooperative agreement, unless provided otherwise under this regulation. 48 CFR 52.227-14(b)(2)(i). Please refer to the FAR for a complete description of the parties' rights in data.

B. The Role of the Center(s)—The Center(s) Will Address the Following Key Research Questions Through Their R&D Initiatives

1. Key Product Research Questions

(a) How to encourage retirement savings for new labor force entrants in employer-sponsored retirement plans, individual retirement plans, or other savings vehicles. Time is a critical variable in amassing retirement savings and consequently, workers' initial savings decisions upon entering the labor force can have lasting effects. We seek R&D on products that can help young workers make effective savings decisions at an age when income adequacy in retirement may appear to be a distant concern. Work in this area includes identifying sound savings principles and effective social marketing/media strategies for those entering the labor force.

A potential near term future publication on this might be a “Welcome to the Workforce Guide” provided to every new wage-earner. Work in this area might also include research-based recommendations on how we can clearly communicate issues regarding future solvency to accurately and effectively convey that Social Security benefits will remain an important component of the retirement savings strategies of many individuals.

(b) How to encourage the protection of retirement resources for mid-career individuals (e.g., limiting lump-sum distributions from employer plans upon job changes, responsible use of loan provisions within employer-provided plans, limiting overall debt levels). Workers who have maintained adequate savings throughout the first half of their careers must take care to ensure these retirement assets are protected and continue to grow until retirement. In addition, workers who have not maintained adequate savings may still have time to make corrections. We are interested in R&D on educational products that help ensure against the diminishment or loss of these critical retirement resources. Work in this area includes: considerations of asset management and work strategies that can affect savings, pensions, and Social Security benefits.

(c) How to encourage work and retirement decisions for near-retirees that ensure adequate retirement income. Workers' retirement decisions can substantially affect their well-being later in life, regardless of their previous savings behavior. We are interested in R&D on effective retirement planning educational products for this group. Work in this area includes: Effects (both separately and together) of starting Social Security benefits at different ages; pension distribution options; and private asset management.

(d) How to encourage effective resource management for current retirees in order to prevent hardship late in life. Financial literacy encompasses not only the accumulation phase of asset management, but also the decumulation phase. We are interested in R&D on appropriate educational resource management products to help retirees maintain adequate income throughout retirement. Examples of this includes: Managing private savings, pensions, and other assets during retirement (either in isolation or as a whole), such as annuitization options.

(e) How to encourage and design effective retirement savings strategies for the low- and moderate-income populations (young and mid-career). Conventional savings strategies are often inappropriate for the low-income population. We are interested in R&D on effective educational products for helping these individuals save for retirement. Work in this area includes: Developing plan designs for savings needs that are not met by restricted use vehicles (e.g., IRAs) and developing plan designs and communicating about investment strategies for low-income persons who are more likely to have immediate and unforeseen financial needs; communicating about opportunities for saving for recipients of means-tested public assistance programs; developing educational products appropriate for persons with limited access to workplace savings vehicles and mainstream financial institutions.

(f) Additionally, the FLRC may involve financial literacy research related to specific programs or features of programs relevant to the agency. We are interested in R&D that relates to Social Security Disability Income (SSDI) and Supplemental Security Income (SSI) recipients. Potential future products in these areas might include a “Guide to Disability Benefits,” an innovatively designed outreach tool to help individuals understand SSDI and SSI disability benefits and the disability determination process. Other products could focus on savings topics relevant to the disabled population or on work incentives in the SSDI or SSI programs (e.g., a “Guide to Work Incentives”).

There may be several subgroups within the target audiences mentioned above, for example, those with limited reading skills. To most effectively develop products to reach target audiences and potential subgroups, applicants are encouraged to consider teaming with partners who have expertise in conducting research with disadvantaged and hard-to-reach populations, including low-income populations, youth with disabilities and adults with disabilities.

We are also interested in R&D on products that would promote better understanding of complex provisions of Social Security; for instance, a potential product could be a “Guide to the WEP (Windfall Elimination Provision)/GPO (Government Pension Offset).”

2. Product Development and Testing

The center(s) will develop products designed to address the five key research questions in ways that will engage the public. Initial product development will be guided primarily by qualitative research such as focus groups and in-depth, unstructured individual interviews, but it could include relevant quantitative survey research as well that assesses increased knowledge and changes in behavior. Additional quantitative research might be utilized in subsequent evaluation of the products, particularly within the context of specific potential distributional channels. The key goal of the FLRC is not only to develop compelling products, but also to get these products into the hands of the public. Evaluation of the most effective ways to do this will be of great importance.

Products generated by the FLRC center(s) can include:

(a) Innovative web-based interactive technologies and social networking applications.

(b) Print publications which are innovative and compelling in terms of graphics, layout, or messaging.

(c) Development of research-based recommendations on the most effective distributional channels for the above products. Channels could include not only our distributional resources such as the annual statement, teleservice centers and field offices, but also employers, non-profit national and community organizations, and public libraries.

(d) Development of research-based recommendations on optimal architecture, plan design, or plan defaults. Recommendations would be developed and refined through qualitative research and possibly large-scale, randomized experiments.

(e) Development of research-based recommendations on optimal combinations of multiple sequenced interventions—possibly even including some forms of personalized assistance—in consumer outreach and education. Advertising and social marketing principles hold that multiple exposures are often necessary for consumers to gain awareness and change behavior. Recommendations would be developed and refined through qualitative research and possibly large-scale, randomized experiments.

(f) Relevant research papers on key issues related to financial literacy. It is expected that as a result of the above types of products being researched and tested, one further outcome would be papers disseminated to the broader research and policy community on testing results. This would enhance the broader knowledge base about financial literacy. In addition, there might be a need for basic research in a previously unexamined area of financial literacy or analysis that would identify policy changes that would support financial literacy and savings. Although we acknowledge that there might be a compelling rationale for centers to produce basic research or policy analysis papers, prospective applicants should be aware that we are looking for these papers to constitute no more than 15% of total center funding.

(g) Development of an experimental recommended audience segmentation strategy within or even across multiple age groups. This would group those with similar attitudes and behaviors toward retirement saving, within more broadly defined age bands, in order to tailor products that each segment would find compelling.

(h) In general, evaluation includes: Focus groups, in-depth interviews, observational research, surveys, and larger scale randomized experiments.

(i) To optimally develop and test products, it is anticipated that a multidisciplinary approach might be utilized in some, many, or all instances. Examples of the relevant disciplines that could be included in the mix are: Economics (behavioral, consumer and family economics); social marketing; marketing science; psychology; sociology.

3. Dissemination of Products and Findings

At our discretion, we may distribute or arrange to distribute products or copies of products developed by the center(s). We may also seek further testing and research within or outside of the FLRC before making a determination about distribution. We may make changes to the FLRC product as we deem necessary for its continued use. See 48 CFR 52.227-14.

In addition, we expect that the center(s) will become a focal point for the public, including the broader saving and financial planning community (retirement plan sponsors, human resources departments, government agencies, and others). The center(s) will have a dedicated Web site on which all products and research results will be available for use, download, and distribution by this broader community.

We realize that effective R&D encompassing all of the above may be well beyond the current capacity and scope of any one center. Therefore, prospective centers are strongly encouraged to engage partners and affiliates to complement and supplement their own areas of expertise. Similarly, a center may choose to concentrate on a few of the research questions and on priority target demographic audience segments. The goal of the Consortium as a whole is to produce high-quality research and educational products covering the range of objectives discussed above.

4. Tasks

Each center will perform the following tasks:

(a) Research, development (including educational materials and distributional channel testing), and dissemination of findings. Each center will be expected to plan, initiate, and maintain a research program that meets the highest standards of rigor and objectivity. Applicants need to describe their quality assurance standards. We reserve the right to review all publications created using Consortium funding prior to publication or dissemination.

Joint research between Consortium and our researchers is encouraged, as is collaboration with other organizations interested in financial literacy. In instances where there is joint research with our researchers, we expect that there would be joint authorship of research papers. Federal employees cannot receive any funding support for collaborations. Planning and execution of the research program must always consider the policy implications of research findings. However, we also consider it appropriate, for example, to pursue advances in research techniques, when related to primary objectives of the Consortium.

In order to ensure the practical utility of the centers' R&D activities, a group of eight nationally recognized scholars or experts, as well as financial services and social marketing practitioners from both the non-profit and business sectors must periodically review the center's activities. (See Part I, Section C, Center Responsibilities.)

(b) Dissemination. An important feature of each center's responsibilities is making knowledge and information available to the public, including but not limited to the broader retirement savings community. The centers will be expected to host a Web site as a go-to resource for research, recommendations, and prototypes of practical products and distributional channels. In addition, the centers will be expected to organize conferences, workshops, lectures, seminars, or other ways of sharing current research activities and findings. The Consortium will hold an annual conference on issues related to financial literacy, with organizational responsibility rotating among the centers if there is more than one center in the consortium. The centers will work with us to produce a conference agenda. The conference will be held in Washington, DC. The hosting center will also have the responsibility for preparing and distributing a bound volume of conference papers and related materials to conference participants.

(c) Reporting. Every three months during the award period, the grantee will produce a quarterly report of progress. The grantee's quarterly progress report should provide a concise summary of the progress made towards completion of activities in the annual work plan. The grantee should pay particular attention in the report to achieving any milestones set forth in the work plan, delays in achieving milestones, and the affect of delays on the final product. Details regarding the format of quarterly progress reports will be provided in the FLRC Terms and Conditions at the time of award. In addition to the regular reporting, the grantee will provide ad hoc and timely “hotline” reports on any significant issues that arise with respect to management and implementation of the work.

C. Responsibilities

1. Center Responsibilities

The centers have the primary and lead responsibility to define objectives and approaches; plan research, conduct studies, and analyze data; design products; and publish results, interpretations, and conclusions of their work.

Occasionally, we will request quick turnaround projects from the FLRC. These projects include: Commenting on our research plans, providing critical commentary on research products, conducting research, composing policy briefs, performing statistical analyses, pulling together key research findings and recommendations in PowerPoint presentations, developing products, organizing research dissemination opportunities such as seminars and workshops and other activities designed to inform the agency's R&D initiatives. Funding for these as well as other related activities should be included in the budget narrative at a level of $200,000. The agency can raise the ceiling above $200,000 for quick turnaround projects if both need and funds exist. For qualitative research, assuming the materials were ready to be tested, quick turnaround would be defined as focus groups taking place within three weeks to one month of task order award, with top line (executive summary—summary of findings) reports to be delivered within one week after research is concluded. For quantitative research, a quick turnaround might involve an online research panel. Therefore, prospective applicants should ensure that they have the capability of bringing on skilled, relevant partners who could accommodate this type of timeframe, if they currently do not have the in-house capability to do so.

Jointly with us, each center will select approximately eight nationally recognized scholars or experts and financial services/social marketing practitioners from the non-profit and business sectors who are unaffiliated with any center to provide assistance in formulating the center's research agenda and advice on implementation. Each center must select four scholars/practitioners or experts, and we will select four scholars/practitioners. Efforts will be made in selecting the scholars/practitioners to ensure a broad range of academic disciplines and viewpoints. Funded under this agreement, the scholars/practitioners must meet once a year at the FLRC Annual Conference in Washington, DC. On occasion, all centers' scholars/practitioners will meet jointly to evaluate and provide advice on Consortium objectives and progress. Further, the centers may contact the scholars/practitioners throughout the year for suggestions regarding center activities. The agency's Project Officer or representative will participate in all meetings.

2. SSA Responsibilities

We will be involved with the Consortium in jointly establishing research priorities and dates to accomplish the objectives of this announcement. We, or our representatives, will provide the following types of support to the Consortium:

(a) Consultation and technical assistance in planning, operating, and evaluating the Consortium's activities.

(b) Information about our programs, policies, and research priorities.

(c) Assistance in identifying our information and technical assistance resources pertinent to the centers' success.

(d) Review of Consortium activities and collegial feedback to ensure that objectives and award conditions are being met. We may suspend or terminate any cooperative agreement in whole or in part at any time before the date of expiration, if the awardee materially fails to comply with the terms and conditions of the cooperative agreement, if the awardee does not meet technical performance requirements, or the project is no longer relevant to the agency. We will promptly notify the awardee in writing of the determination and the reasons for suspension or termination together with the effective date. We reserve the right to suspend funding for individual projects in process or in previously approved research areas or tasks after granting awards.

In general, we seek organizations with demonstrated capacity for providing quality innovative R&D, and working with government policymakers.

II. Award Information

A. Type of Award

All awards made under this program will be made in the form of a cooperative agreement. A cooperative agreement, as distinct from a grant, anticipates substantial involvement between the agency and the awardee during the performance of the project. A comprehensive annual review process will allow us to evaluate, recommend changes, and approve each center's activities. Our involvement may include collaboration or participation in the activities of the centers as determined at the time of award. The terms of the award are in addition to, not in lieu of, otherwise applicable guidelines and procedures. The issuance of the terms occurs along with the notice of award.

The grantee must apply to continue the cooperative agreement in order to receive funds in subsequent years of the 5-year agreement. The grantee will produce a continuation application, subject to review and approval by us. The continuation application should clearly describe a set of research, and dissemination activities that best address the priorities of the agency. We will engage in a dialogue with grantees throughout the award period regarding research topics. Based on that dialogue, we will provide the grantee with guidance (in writing) on the agency's research priorities for the subsequent continuation cycle.

B. Availability and Duration of Funding

1. Approximately $5.0 million will be available to fund the initial 12-month budget period of a proposed five-year cooperative agreement(s) pursuant to the announcement.

2. Applicants must include detailed budget estimates for the first year, assuming a funding level of $5.0 million. If an applicant receives an award under the FLRC for less than $5.0 million, the agency and the applicant will jointly renegotiate research priorities.

3. The amount of funds available for the cooperative agreement in future years has not been established. Legislative support for continued funding of the Consortium cannot be guaranteed and funding is subject to future appropriations and budgetary approval. We expect Consortium support during future fiscal years at an annual level of approximately $5 million.

4. The announcement allows for the unequal division of funds among multiple chosen centers.

5. Additional funds may become available from the agency or other Federal agencies in support of Consortium projects.

6. Initial awards, pursuant to this announcement, will be made on or about September 15, 2009.

Although we anticipate two awards, nothing in this announcement restricts our ability to make more or fewer awards, to make an award of lesser amount, or to add additional centers to the FLRC in the future. Further, we are not required to fund all proposed Consortium activities in any year. We will review all proposed activities annually.

C. Letter of Intent

Prospective applicants must submit a letter of intent by May 7, 2009, which includes (1) this program announcement number and title; (2) a brief description of the proposed center; (3) the name, postal and e-mail addresses, telephone and fax numbers of the Center Director; and (4) the identities of the key personnel and participating institutions. The letter of intent is not required, is not binding, and does not enter into the review process of a subsequent application. The sole purpose of the letter of intent is to allow our staff to estimate the potential review workload and avoid conflicts of interest in the review. The letter of intent should be sent to: SSA, Office of Retirement Policy, 500 E Street, SW., Washington, DC 20254, Attention: David Rogofsky.

III. Eligibility Information

A. Eligible Applicants

We are seeking applications from domestic Institutions of Higher Education, Non-Profit organizations, Commercial organizations, Federal and State Governments, and Native American tribal organizations. A research team may consist of organizations, individuals, or institutions that are geographically distant, to the extent that the research design requires and accommodates such arrangements. Nothing in this announcement precludes non-academic entities from being affiliated with an applicant.

No cooperative agreement funds may be paid as profit to any cooperative agreement recipient. For-profit organizations may apply with the understanding that no funds may be paid as profit. Profit is considered as any amount in excess of the allowable costs of the award recipient.

In accordance with an amendment to the Lobbying Disclosure Act, popularly known as the Simpson-Craig Amendment, those entities organized under section 501(c)4 of the Internal Revenue Code that engage in lobbying are prohibited from receiving Federal cooperative agreement awards.

B. Cost Sharing

We will not provide a center's entire funding. Recipients of our cooperative agreement are required to contribute a non-Federal match of at least 5 percent toward the total approved cost of each center. The total approved cost of the project is the sum of the Federal share (maximum of 95 percent) and the non-Federal share (minimum of 5 percent). The non-Federal share may be cash or in-kind (property or services) contributions.

C. Other

Each center director must have a demonstrated capability to organize, administer, and direct the center. The director will be responsible for the organization and operation of the center and for communication with us on scientific and operational matters. The director must also have a minimum time commitment of 25 percent to Consortium activities. Racial/ethnic minority individuals, women, and persons with disabilities are encouraged to apply as directors. Submission of a list of previous grants and cooperative agreements held by the director is required, including the names and contact information of each grant's and cooperative agreement's administrator. In addition to the director, skilled personnel and institutional resources capable of providing a strong research, development and testing base in the specified priority areas must be available. The institution must show a strong commitment to the Consortium's support. Such commitment may be provided as dedicated space, salary support for investigators or key personnel, dedicated equipment or other financial support for the proposed center.

IV. Application and Submission Information

A. Overview

This part contains information on the preparation of an application for submission under this announcement and the forms necessary for submission. Potential applicants should read this part carefully in conjunction with the information provided in Part I.

We anticipate that the applicant will have access to additional sources of funding for some projects and arrangements with other organizations and institutions. The applicant (including the center Director and other key personnel) must make all current and anticipated related funding arrangements (including contact information for grant/contract/cooperative agreement administrators) explicit in an attachment to the application (Part IV, Section D). As part of the annual review process, this information will be updated and reviewed to limit duplicative funding for center projects.

B. Availability of Application Forms

The application kit is available at www.grants.gov. For information regarding the application package, contact: SSA, Office of Acquisition and Grants, Grants Management Team, 7111 Security Blvd, 1st Floor Rear Entrance, Baltimore, MD 21244. Contact person is Phyllis Y. Smith, Chief, Grants Management Office, telephone (410) 965-8518, e-mail: Phyllis.Y.Smith@ssa.gov. The fax number is (410) 966-9610. To request an application kit for those without Internet access or for those experiencing extenuating circumstances preventing the submission of an electronic application, contact the Grants Management Office as mentioned above.

When requesting an application kit, the applicant should refer to the program announcement number SSA-ORP-09-1 and the date of this announcement to ensure receipt of the proper application kit.

As questions arise, an FLRC FAQ attachment in Word will be posted and revised on the Office of Retirement Policy Web site (http://www.ssa.gov/retirementpolicy). This will enable us to respond to questions about this RFA from interested parties.

C. Content and Organization of Technical Application

The application must begin with the required application forms and a three-page (double-spaced) overview and summary of the application. Staff resumes should be included in a separate appendix.

Budget Narrative: In addition to providing an explanation of the budget categories specified in the required forms, the budget narrative must also link the R&D and administration to the center's funding level. The special instructions attachment of the application kit provides information on the distribution and presentation of budget data. Though we believe that all of the stated goals and objectives are important, we expect that the substantial majority of funds will support R&D. In addition, allocation of funds for occasional agency requested activities is required (described in Part I, Section C-1).

Also, this section should include documentation of the availability, potential availability, or expectation of other funds (from the host institution, universities, foundations, other Federal agencies, etc.) and the use of these funds. When contemplating additional funding, applicants must note whether the host institution is donating the funding, is in-hand from another funding source, or applied for from another funding source. Formal commitments for the 5 percent, non-Federal, minimum budget share should be highlighted in this section.

Seeking additional support from other sources is encouraged. However, funds pertaining to this announcement must not duplicate those received from other funding sources.

Project Narrative: The core of the application must contain five sections, presented in the following order:

(1) A brief (not more than 30 pages) background environmental scan and situation analysis of the key current financial literacy issues and trends—with an emphasis on retirement savings—as they pertain to the priority target audience segments to be addressed by the proposed center. The analysis should cover the general state of savings strategies, current educational products and distributional channels (uptake, utilization, etc) targeted to these audiences. The analysis should discuss concisely, but comprehensively, important priority R&D initiatives based on either/both current key noted gaps in current efforts, or on emerging societal trends that require new ways of reaching the public.

(2) A research, development, and evaluation prospectus for a five-year research agenda, outlining the major research themes to be investigated over the next five years. In particular, the prospectus will describe the activities planned for the priority research areas and other additional R&D ideas proposed by the applicant. The prospectus should follow from the background analysis section, and it should detail how the proposed R&D would plan to result in products that would be innovative, engaging, and compelling to several or all of the target audiences, while reaching their intended audiences through effective distributional channels. The prospectus should be clear on how the proposed agenda and products do not duplicate research or products currently available in the public and private sectors.

The prospectus must include detailed descriptions of individual research projects expected in the center's first year of operation. The special instructions attachment of the application kit provides guidelines for project proposals. The prospectus should be specific about long-term research themes and projects. The lines of research described in the prospectus should be concrete enough that project descriptions in subsequent research plan amendments can be viewed as articulating a research theme discussed in the prospectus. An application that contains an ad hoc categorization of an unstructured set of research projects, rather than a set of projects that strike a coherent theme, will be judged unfavorably.

Note: Once we have selected up to two successful FLRC applicants, we will review the FLRC research agenda and determine research priorities. This may include the addition, modification, or removal of proposed research projects. After review, each center will submit to us a revised research plan and budget. The research plan will be periodically reviewed and revised as necessary. The application should discuss how the centers select research projects to propose, including involvement of the outside scholars/practitioners, the agency, and other advisors and participants in the consortium.

(3) A prospectus for dissemination of research findings, including ways to reach a broad audience of the retirement savings community. Dissemination plans should detail the proposed center Web site and conferences.

(4) A staffing and organization proposal for the center, including an analysis of the types of background needed among staff members, the center's organizational structure, and linkages with the host institution and other organizations. In this section, the applicant should specify how it will ensure an effective approach to R&D and where appropriate, identify the necessary links to experts engaged in outreach and education.

The applicant should identify the center Director and key senior research staff. Full resumes of proposed staff members must be included as a separate appendix to the application. Each proposed staff member must indicate the time commitment to the center and other commitments. The application should specify how administrative arrangements would be made to minimize start-up and transition delays. Note that once we award the cooperative agreement, changes in key staff will require prior approval from us. The kinds of administrative and tenure arrangements, if any, the center proposes to make should also be discussed in this section. In addition, the authors of the application and the role that they will play in the proposed center must be specified.

If the applicant envisions an arrangement of several universities or entities, this section should describe the specifics of the relationships, including leadership, management, and administration. The staffing proposal should pay particular attention to discussing how a focal point for R&D will be maintained given the arrangement proposed. The applicant should also discuss the criteria for selection, and expected contribution of the outside scholars/practitioners.

The application should provide an organizational experience summary of past work at the institution proposed as the location (or the host) of the center that relates directly or indirectly to the research priorities of this request. This discussion should include more than a listing of the individual projects completed by the individuals who are included in the application. The discussion should provide a sense of institutional commitment to R&D on issues involving financial literacy. The application must list in an appendix appropriate recent or current research projects, with a brief research summary, contact person, references, and address and telephone numbers of references. This section should also discuss the experience of the research staff in working with the government agencies and their demonstrated capacity to provide relevant support to these agencies.

D. Components of a Complete Application

A complete application package consists of one electronic application. It should include the following items:

(1) Project Abstract/Summary (not to exceed three pages);

(2) Table of Contents;

(3) Part I (Face Sheet)—Application for Federal Assistance (Standard Form 424);

(4) Part II—Budget Information—

(a) Form SF-424A—Sections A through F

(b) Form SSA SF424 Section G—Personnel

(5) Budget Narrative for Section B—Budget Categories;

(6) Copy of the applicant's approved indirect cost rate agreement, if appropriate;

(7) Part III—Project Narrative. The project narrative should be organized in five sections:

(a) Background Environmental Scan and Situation Analysis

(b) Research, Development, and Evaluation Prospectus

(c) Dissemination Prospectus,

(d) Staffing Proposal Including Staff Utilization, Staff Background, Organizational Experience, and Partnerships with other organizations.

(8) Assurances—Form SF-424B;

(9) Disclosure of Lobbying Activities, Form SF-LLL, if applicable.

(10) Any appendices/attachments; and

(11) Supplement to Section II—Key Personnel.

E. Guidelines for Application Submission

These guidelines should be followed in submitting applications:

(1) All applicants requesting our funds for cooperative agreement projects under this announcement must submit the standard forms provided in the application kit.

(2) The application must be executed by an individual authorized to act for the applicant organization and to assume for the applicant organization the obligations imposed by the terms and conditions of the cooperative agreement award.

(3) Length: Applications should be as brief and concise as possible, but ensure successful communication of the applicant's proposal to the reviewers. The Project Narrative portion of the application may not exceed 100 double-spaced pages (excluding the resume and outside funding appendices), equivalent to being typewritten on one side using standard (8½″ x 11″) size paper and 12-point font. Attachments that support the project narrative count within the 100-page limit. Attachments not applicable to the project narrative do not count toward this page limit.

(4) Attachments/Appendices, should only be included to provide supporting documentation.

(5) On all applications developed by more than one organization, the application must identify only one institution as the lead organization and the official applicant. The other(s) can be included as sub-grantees or subcontractors.

F. Submission Dates and Times

Applicants must submit applications through www.grants.gov by the closing date of June 6, 2009. However, when the SSA Grants Management Team approves the submission of a mailed application due to extenuating circumstances, applications may be mailed or hand-delivered to: Social Security Administration, Office of Acquisition and Grants, Grants Management Team, Attention: SSA-ORP-09-1, 1st Floor-Rear Entrance, 7111 Security Blvd., Baltimore, MD 21244. Hand-delivered applications are accepted between the hours of 8 a.m. and 5 p.m., Monday through Friday. An application will be considered as meeting the deadline if it is either:

(1) Received from Grants.gov on or before the deadline date; or

(2) Received at the above address on or before the deadline, when a mailed application has been authorized by the Grants Management Team; or

(3) Postmarked by June 6, 2009 when a mailed application has been authorized by the Grants Management Team. Packages approved for mailing must be sent through the U.S. Postal Service or by commercial carrier on or before the deadline date and received in time to be considered during the competitive review and evaluation process. Applicants are cautioned to request a legibly dated U.S. Postal Service postmark or to obtain a legibly dated receipt from a commercial carrier as evidence of timely mailing. Private metered postmarks are not acceptable as proof of timely mailing.

Applications that do not meet the above criteria will be considered late applications. We will not waive or extend the deadline for any applicant unless we waive or extend the deadline for all applicants. We will notify each late applicant of non-application consideration.

Letters of intent, which are optional, are requested by May 7, 2009. See Part II, Section C for details.

G. Intergovernmental Review

Executive Order 12372 and 12416—Intergovernmental Review of Federal Programs

This program is not covered by the requirements of Executive Order 12372, as amended by Executive Order 12416, relating to the Federal policy for consulting with State and local elected officials on proposed Federal financial assistance.

(Catalog of Domestic Federal Assistance: Program No. 96.007, Social Security—Research and Demonstration)

H. Funding Restrictions

There will be limitations concerning allowable construction expenses. Submitted budgets may include minor construction expenses, such as alterations and renovations. This could include work required to change the interior arrangements or other physical characteristics of an existing facility or installed equipment so that it may be more effectively used for the project. Alteration and renovation may include work referred to as improvements, conversion, rehabilitation, remodeling, or modernization, but is distinguished from construction and large-scale permanent improvements.

Awards will not allow reimbursement of pre-award costs.

I. Other Submission Requirements

We require that applicants submit an electronic application through www.grants.gov for Funding Opportunity Number SSA-ORP-09-1. If you experience problems with the steps related to registering to do business with the Federal government or application submission, your first point of contact is the Grants.gov support staff at support@grants.gov, 1-800-518-4726. If your difficulties are not resolved, you may also contact the SSA Grants Management Team for assistance: Audrey Adams, 410-965-9469; Mary Biddle, 410-965-9503; Ann Dwayer, 410-965-9534; Phyllis Y. Smith, 410-965-9518.

If extenuating circumstances prevent you from submitting an application through www.grants.gov, please contact the SSA Grants Management Team for possible prior written approval to download, complete, and submit an application by mail. Should we grant such approval; the downloadable application package will be available at http://www.ssa.gov/oag. Please fax inquiries regarding the application process to the Grants Management Team at 410-966-9310 or mail to: Social Security Administration, Office of Acquisition and Grants, Grants Management Team, Attention: SSA-ORP-09-1, 1st Floor—Rear Entrance, 7111 Security Blvd., Baltimore, MD 21244. To ensure receipt of the proper application package, please include program announcement number SSA-ORP-09-1 and the date of this announcement.

V. Application Review Information

A. Review Process and Funding

In addition to any other reviews, a review panel consisting of at least three qualified persons will be formed. Each panelist will objectively review and score the cooperative agreement applications using the evaluation criteria listed below. The panel will recommend centers based on (1) the application scores; (2) the feasibility and adequacy of the project plan and methodology; and (3) how the centers would jointly meet the objectives of the Consortium. The agency will consider the panel's recommendations when awarding the cooperative agreements. Although the results from the review panel are the primary factor used in making funding decisions, they are not the sole basis for making awards. The agency will consider other factors as well (such as duplication of internal and external research effort) when making funding decisions.

All applicants must use the guidelines provided in the agency's application kit at www.grants.gov, for preparing applications requesting funding under this cooperative agreement announcement. These guidelines describe the minimum amount of required project information. However, when completing the Project Narrative, please follow the guidelines under Part IV, Section C, above.

All awardees must adhere to our Privacy and Confidentiality Regulations, as well as provide specific safeguards surrounding client information sharing, paper/computer records/data, and other issues potentially arising from administrative data. 20 CFR part 401. Additional details regarding safeguarding of Personally Identifiable Information are available in the SSA Grants Administration Manual, Section 3-10-60, available at http://www.ssa.gov/oag/grants/ssagrant_info.htm.

B. Selection Process and Evaluation Criteria

The evaluation criteria correspond to the outline for the development of the Budget and Project Narrative Statement of the application described in Part IV, Section C, above. The application should be prepared in the format indicated by the outline described in the components of a complete application (Part IV, Section D).

Selection of the successful applicants will be based on the technical and financial criteria laid out in this announcement. Reviewers will determine the strengths and weaknesses of each application in terms of the evaluation criteria listed below.

The point value following each criterion heading indicates the maximum numerical relative weight that each section will be given in the review process. An unacceptable rating on any individual criterion may render the application unacceptable. Consequently, applicants should take care that all criteria are fully addressed in the applications. Applications will be reviewed as follows:

(1) Quality of the background environmental scan/situation analysis. (10 points) Reviewers will judge applications on whether they provide a thoughtful, coherent, and pragmatic discussion of the key research questions influencing financial literacy, particularly within the context of retirement savings.

(2) Quality of the research, development, and evaluation prospectus. (30 points) Reviewers will judge this section on whether the R&D agenda and methodology are both sound and geared toward achieving practical results. Applications must address how they will develop and test compelling calls to action within the context of the key research questions, and they must address how they will approach the evaluation of distributional channels.

The reviewers will judge the application on the breadth and depth of the applicant's commitment to R&D, particularly with regard to the key product research questions and product development and testing described in Part I, Section B, parts 1 and 2. The discussion and research proposed must address at least three product research questions and three-product development and testing examples, with a multi-disciplinary approach. Applicants will generally receive higher scores for addressing more than four product research questions as well as more than three product development and testing examples. However, a strong proposal focusing on three areas will outscore one that is broad and weakly defined. Applicants with additional insightful research proposals will also score higher. Besides detailed plans for research projects in the first year, the research agenda should discuss possible projects over the longer five-year horizon.

(3) Dissemination. (15 points) Reviewers will evaluate the proposed Web site, conferences, and other strategies for dissemination of research and other related information to the general public, including but not limited to a broad and disparate set of practitioner and policy communities.

(4) Quality of the staffing proposal and proposed administration. (25 points) Reviewers will judge the applicant's center Director, staff and proposed business partners/subawardees on relevant research experience, demonstrated research and testing experience, prior administrative and leadership skills, and public administration experience. Relevant research experience may include, but is not limited to: (a) Prior publications on financial literacy tools, financial education in the workplace, retirement planning, saving over the life cycle, affect of benefits and/or health on timing of retirement and claiming decisions (with ideally at least some publications incorporating a social marketing approach); (b) Prior published financial literacy research with audience segments reflecting the above priority areas is sought; (c) Relevant administrative and practical public administration experience that may include, but not be limited to, leading a current center; serving in a senior government capacity in a relevant agency such as the Department of Treasury, the Federal Reserve or the Social Security Administration; or board leadership of relevant non-profit organizations.

(i) An additional criterion will be the center's demonstrated potential to facilitate, on its own or through partnerships/subawards, applied research to inform the development and testing of educational outreach materials and channels. The reviewers will consider both the evidence of past involvement in related R&D, and the specific plans for seeking applied outcomes described in the application as part of that potential. Applications that list key proposed partnership/proposed subawardee personnel, along with the accompanying rationale for selection, (e.g., entities and organizations external to the applicants) are highly desirable.

(ii) Reviewers will consider references from grant/cooperative agreement/contract administrators on previous grants, cooperative agreements and contracts held by the proposed center Director or other key personnel, as well as other known references within the agency. Reviewers will take into account past performance on other grants/cooperative/contracts.

(iii) Director and staff time commitments to the center also will be a factor in evaluation. Reviewers will evaluate the affiliations of proposed key personnel to ensure fulfillment of the required multi-disciplinary nature of the consortium.

(iv) The reviewers will judge applicants on the nature and extent of the organizational support for research and dissemination in areas related to the center's central priorities and this request. Reviewers will evaluate the commitment of the host institution (and the proposed institutional unit that will contain the center) to assess its ability to support both of the center's major activities: (1) R&D and (2) dissemination.

(v) The application should address how the applicant will pull a team together of subawardees—what their evaluation criteria will be, and how they will manage the subawardees if the applicant is the recipient of an award. The government expects that all applicable subawardees will be in any relevant meetings and conference calls with the government.

(5) Extent to which applicants meet program policy evaluation criteria. It may be desirable to select centers for awards based upon the applicants' total mix of areas of concentration so as to round out portfolio objectives. (10 points)

(6) Appropriateness of the budget for carrying out the planned staffing and activities. (10 points) Reviewers will consider whether (1) the budget ensures an efficient and effective allocation of funds to achieve the objectives of this solicitation, and (2) the applicant has additional funding from other sources, in particular, the host institution. Applications that show funding from other sources that supplement funds from this cooperative agreement will be given higher marks than those without financial support. Awardees are required to contribute a minimum of 5 percent cost share of total project costs.

Panel Recommendations. Once each application is scored and ranked, the panel will then review the top applicants and recommend centers that together best address the range of responsibilities described in Part I.

VI. Award Administration Information

A. Notification

Grants.gov will issue application receipt acknowledgments.

B. Award Notices

Applicants who have been selected will receive an official electronic notice of award signed by an SSA Grants Management Officer around September 15, 2009. Those who were not selected will be notified by official letter.

C. Administration and National Policy Requirements

Grantees will have access to confidential beneficiary information and will be subject to our background checks and fingerprinting in accordance with our personnel, security and suitability requirements. In addition, grantees are required to adhere to our policy regarding the protection of Personally Identifiable Information (PII). When making awards, we will distribute the necessary packages including forms and consents for completion, for both PII and Suitability Determination.

D. Reporting

Every three months during the award period, the grantee will produce a quarterly report of progress. The grantee's quarterly progress reports should provide a concise summary of the progress being made toward completion of activities in the annual work plan. The grantee should pay particular attention in the reports to achieving any milestones set forth in the work plan, delays in achieving milestones, and the affect of delays on the final product. Details regarding the format of quarterly progress reports will be provided in the FLRC Terms and Conditions at the time of award. In addition to the regular reporting, the grantee will provide ad hoc and timely “hotline” reports on any significant issues that arise with respect to management and implementation of the work.

In addition, the grantee will submit quarterly and annual financial status reports to us. We will provide detailed instructions for submitting financial reports and the required forms with each year's award.

VII. Agency Contacts

For matters related to the application and submission process for this cooperative agreement, contact Audrey Adams, (410) 965-9469; Mary Biddle, (410) 965-9503; Ann Dwayer, (410) 965-9534; Phyllis Y. Smith, (410) 965-9518. The mailing address is SSA, Office of Acquisition and Grants, Grants Management Team, 7111 Security Blvd., 1st Floor, Rear Entrance, Baltimore, MD 21244. The fax number is (410) 966-9310.

For program content information, send questions to the FLRC mailbox at flrc@ssa.gov. Questions and answers will be continuously posted to the Office of Retirement Policy Web site.

VIII. Other

This announcement is for the initial competition of the FLRC.

Along with the official notice of award each year, we will issue a set of Terms and Conditions that define closely the responsibilities of the center and of us towards meeting the goals of the cooperative agreement.

An Annual Priority Research Memo will also be issued each year before the start of the continuation cycle to guide the centers in preparing their continuation applications.

We are committed to accessibility of our products to persons with disabilities. Each center's Web site should meet accessibility standards identified in Section 508 of the Rehabilitation Act. The annual conference also should be accessible to persons with disabilities.

For additional information on how we sponsor grants and other details go to the Grants Home page at http://www.ssa.gov/oag.

Michael J. Astrue,
Commissioner of Social Security.

[FR Doc. E9-9151 Filed 4-21-09; 8:45 am]

BILLING CODE 4191-02-P